CONSUMER PRODUCT SAFETY COMMISSION

[Docket No. CPSC-2012-0026]

Agency Information Collection Activities; Proposed Collection; Comment Request; Requirements Pertaining to Third Party Conformity Assessment Bodies

AGENCY: Consumer Product Safety Commission.

ACTION: Notice.

SUMMARY: As required by the Paperwork Reduction Act of 1995, the Consumer Product Safety Commission (CPSC) requests comments on a proposed extension of approval of a collection of information under the requirements pertaining to third party conformity assessment bodies, approved previously under OMB Control No. 3041-0156. The Commission will consider all comments received in response to this notice before requesting an extension of this collection of information from the Office of Management and Budget (OMB).

DATES: Submit written or electronic comments on the collection of information by May 20, 2019.

ADDRESSES: You may submit comments, identified by Docket No. CPSC-2012-0026, by any of the following methods:

Electronic Submissions: Submit electronic comments to the Federal eRulemaking Portal at: http://www.regulations.gov. Follow the instructions for submitting comments. The CPSC does not accept comments submitted by electronic mail (email), except through www.regulations.gov. The CPSC encourages you to submit electronic comments by using the Federal eRulemaking Portal, as described above.

Written Submissions: Submit written submissions by mail/hand delivery/courier to: Division of the Secretariat, Consumer Product Safety Commission, Room 820, 4330 East-West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number CPSC-2012-0026, into the “Search” box, and follow the prompts.

FOR FURTHER INFORMATION CONTACT: Bretford J. Griffin, Consumer Product Safety Commission, 4330 East-West Highway, Bethesda, MD 20814; (301) 504-7037, or by email to: bgriffin@cpsc.gov.

SUPPLEMENTARY INFORMATION: CPSC seeks to renew the following currently approved collection of information:

Title: Requirements Pertaining to Third Party Conformity Assessment Bodies.

OMB Number: 3041-0156.

Type of Review: Renewal of collection.

Frequency of Response: On occasion.

Affected Public: Third party conformity assessment bodies seeking acceptance of accreditation or continuing accreditation.

Estimated Burden

• New Applications From Third Party Conformity Assessment Bodies

○ We estimate approximately 40 new applications from independent third party conformity assessment bodies will be submitted per year, taking an estimated 75 minutes to complete the initial application materials, with an estimated burden of 50 hours per year.

○ We estimate approximately 3 firewalled third party conformity assessment bodies will apply per year, taking an estimated 8.4 hours to complete the initial application materials, with an estimated burden of 25.2 hours per year.

○ We estimate approximately 4 governmental third party conformity assessment bodies will apply per year, taking an estimated 3 hours to complete the initial application materials, with an estimated burden of 12 hours per year.

• Third Party Conformity Assessment Bodies Updating Information

○ We estimate that approximately 5 third party conformity assessment bodies will take 15 minutes to update information for only those elements of information that need updating, with an estimated burden of 1.35 hours per year.

• Third Party Conformity Assessment Bodies That Subcontracts Out Tests

○ We estimate that approximately 27 third party conformity assessment bodies will take 7 minutes to comply with the subcontracting recordkeeping requirement for an estimated 68,769 subcontract test, with an estimated of approximately 8,023 hours per year.

• Third Party Conformity Assessment Bodies That Voluntarily Withdraw

○ We estimate approximately 8 third party conformity assessment bodies will withdraw yearly, taking an estimated 30 minutes to create and submit the required documentation, with an estimated burden of 4 hours per year.

• Third Party Conformity Assessment Bodies That Are Audited

○ We estimate that approximately 228 independent third party conformity assessment bodies each year will be audited, taking approximately 4 minutes to resubmit their Form 223 and accreditation certificate, with an estimated burden of 15.2 hours per year.

○ We estimate that approximately 18 firewalled third party conformity assessment bodies will spend 226 minutes collecting and preparing the documentation to submit for an audit, with estimated burden of about 68 hours per year.

○ We estimate approximately 25 governmental third party conformity assessment bodies will spend 1 hour collecting and preparing the documentation to submit for an audit, with estimated burden of 25 hours per year.

• Total Annual Burden

Adding all of the annual estimated burden hours results in a total of 8,224 hours for third party conformity assessment bodies per year. At $38.78 per hour, the total cost of the recordkeeping associated with the Requirements Pertaining to Third Party Conformity Assessment Bodies is approximately $318,927 (8,224 hours × $38.78 = $318,927).

General Description of Collection: On March 12, 2013, the Commission issued a rule Pertaining to Third Party Conformity Assessment Bodies (78 FR 15836). The rule established the general requirements concerning third party conformity assessment bodies, such as the requirements and procedures for CPSC acceptance of the accreditation of a third party conformity assessment body, and prescribed adverse actions that may be imposed against CPSC-accepted third party conformity assessment bodies. The rule also amended the audit requirements for third party conformity assessment bodies and amended the CPSC's regulation on inspections.

Request for Comments

The CPSC solicits written comments from all interested persons about the proposed collection of information. The CPSC specifically solicits information relevant to the following topics:

—Whether the collection of information described above is necessary for the proper performance of the CPSC's functions, including whether the information would have practical utility;

—Whether the estimated burden of the proposed collection of information is accurate;

—Whether the quality, utility, and clarity of the information to be collected could be enhanced; and

—Whether the burden imposed by the collection of information could be minimized by use of automated, electronic or other technological collection techniques, or other forms of information technology.

Alberta E. Mills,
Secretary, Consumer Product Safety Commission.

[FR Doc. 2019-05368 Filed 3-20-19; 8:45 am]

BILLING CODE 6355-01-P